DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Alabama:
Montgomery (FEMA Docket No.: B-2321). | Town of Pike Road (22-04-4846P). | The Honorable Gordon Stone, Mayor, Town of Pike Road, P.O. Box 640339, Pike Road, AL 36064. | Town Hall, 9575 Vaughn Road, Pike Road, AL 36064. | Jun. 2, 2023 | 010433
Montgomery (FEMA Docket No.: B-2321). | Unincorporated areas of Montgomery County (22-04-4846P). | The Honorable Doug Singleton, Commissioner, Montgomery County Commission, P.O. Box 1667, Montgomery, AL 36102. | Montgomery County Engineering Department, 100 South Lawrence Street, 2nd Floor, Montgomery, AL, 36104. | Jun. 2, 2023 | 010278
Colorado:
Douglas (FEMA Docket No.: B-2321). | Town of Castle Rock (22-08-0258P). | The Honorable Jason Gray, Mayor, Town of Castle Rock, 100 North Wilcox Street, Castle Rock, CO 80104. | Water Department, 175 Kellogg Court, Castle Rock, CO 80109. | Apr. 28, 2023 | 080050
Douglas (FEMA Docket No.: B-2321). | Unincorporated areas of Douglas County (22-08-0258P). | The Honorable Abe Laydon, Chair, Douglas County Board of Commissioners, 100 3rd Street, Castle Rock, CO 80104. | Douglas County Department of Public Works, 100 3rd Street, Castle Rock, CO 80104. | Apr. 28, 2023 | 080049
Florida:
Broward (FEMA Docket No.: B-2321). | Town of Hillsboro Beach (22-04-4947P). | Mac Serda, Manager, Town of Hillsboro Beach, 1210 Hillsboro Mile, Hillsboro Beach, FL 33062. | Building Department, 1210 Hillsboro Mile, Hillsboro Beach, FL 33062. | May 1, 2023 | 120040
Manatee (FEMA Docket No.: B-2304). | Unincorporated areas of Manatee County (22-04-4852P). | Scott Hopes, Manatee County Administrator, 1112 Manatee Avenue, West Bradenton, FL 34205. | Manatee County Building and Development Services Department, 1112 Manatee Avenue, West Bradenton, FL 34205. | Apr. 28, 2023 | 120153
Monroe (FEMA Docket No.: B-2321). | Unincorporated areas of Monroe County (23-04-0047P). | The Honorable Craig Cates, Mayor, Monroe County Board of Commissioners, 500 Whitehead Street, Suite 102, Key West, FL 33040. | Monroe County Building Department, 2798 Overseas Highway, Suite 300, Marathon, FL 33050. | May 4, 2023 | 125129
Polk (FEMA Docket No.: B-2314). | Unincorporated areas of Polk, County (22-04-2127P). | Bill Beasley, Manager, Polk County, 330 West Church Street, Bartow, FL 33831. | Polk County Administration Building, 330 West Church Street, Bartow, FL 33831. | Apr. 27, 2023 | 120261
Georgia: Columbia (FEMA Docket No.: B-2321). | Unincorporated areas of Columbia County (21-04-3381P). | The Honorable Douglas R. Duncan, Jr., Chair, Columbia County Board of Commissioners, 630 Ronald Reagan Drive, Building B, Evans, GA 30809. | Columbia County Engineering Services Division, Stormwater Compliance Department, 630 Ronald Reagan Drive, Evans, GA 30809. | May 4, 2023 | 130059
Maryland:
Baltimore (FEMA Docket No.: B-2321). | Unincorporated areas of Baltimore County (22-03-0752P). | The Honorable John A. Olszewski, Jr., Baltimore County Executive, 400 Washington Avenue, Towson, MD 21204. | Baltimore County Department of Public Works and Transportation, 111 West Chesapeake Avenue, Room 205, Towson, MD 21204. | May 19, 2023 | 240010
Frederick (FEMA Docket No.: B-2304). | City of Frederick (22-03-0336P). | The Honorable Michael O'Connor, Mayor, City of Frederick, 101 North Court Street, Frederick, MD 21701. | City Hall, 101 North Court Street, Frederick, MD 21701. | Apr. 26, 2023 | 240030
Frederick (FEMA Docket No.: B-2304). | Unincorporated areas of Frederick County (22-03-0336P). | The Honorable Jessica Fitzwater, Frederick County Executive, 12 East Church Street, Frederick, MD 21701. | Frederick County Division of Planning and Permitting, 30 North Market Street, Frederick, MD 21701. | Apr. 26, 2023 | 240027
Montana:
Missoula (FEMA Docket No.: B-2321). | City of Missoula (22-08-0126P). | Jordan Hess, Mayor, City of Missoula, 435 Ryman Street, Missoula, MT59802. | City Hall, 435 Ryman Street, Missoula, MT 59802. | May 22, 2023 | 300049
Missoula (FEMA Docket No.: B-2321). | Unincorporated areas of Missoula County (22-08-0126P). | Chris Lounsbury, Chief Administrative Officer, Missoula County, 200 West Broadway Street, Missoula, MT 59802. | Missoula County Department of Planning, Development and Sustainability, 127 East Main Street, Suite 2, Missoula, MT 59802. | May 22, 2023 | 300048
New Mexico:
Dona Ana (FEMA Docket No.: B-2321). | City of Las Cruces (22-06-1258P). | The Honorable Ken Miyagishima, Mayor, City of Las Cruces, 700 North Main Street, Las Cruces, NM 88001. | Community Development Department, 700 North Main Street, Las Cruces, NM 88001. | May 22, 2023 | 355332
Dona Ana (FEMA Docket No.: B-2321). | Unincorporated areas of Dona Ana County (22-06-1258P). | The Honorable Manuel Sanchez, Chair, Dona Ana County Board of Commissioners, 845 North Motel Boulevard, Las Cruces, NM 88007. | Dona Ana County Flood Commission, 845 North Motel Boulevard, Las Cruces, NM 88007. | May 22, 2023 | 350012
North Carolina: Buncombe (FEMA Docket No.: B-2321). | Unincorporated areas of Buncombe County (22-04-4158P) | The Honorable Brownie Newman, Chair, Buncombe County Board of Commissioners, 200 College Street, Suite 300, Asheville, NC 28801. | Buncombe County Planning and Development Department, 46 Valley Street, Asheville, NC 28801. | May 26, 2023 | 370031
Oklahoma: Oklahoma (FEMA Docket No.: B-2321). | City of Edmond (22-06-0815P). | The Honorable Darrell A. Davis, Mayor, City of Edmond, P.O. Box 2970, Edmond, OK 73083. | Engineering Department, Stormwater Management, 10 South Littler Avenue, Edmond, OK 73034. | May 19, 2023 | 400252
Rhode Island:
Kent (FEMA Docket No.: B-2321). | City of Warwick (22-01-0564P). | The Honorable Frank J. Picozzi, Mayor, City of Warwick, 3275 Post Road, Warwick, RI 02886. | Building Department, 65 Centerville Road, Warwick, RI 02886. | Apr. 28, 2023 | 445409
Providence (FEMA Docket No.: B-2321). | City of Cranston (22-01-0564P). | The Honorable Kenneth J. Hopkins, Mayor, City of Cranston, 869 Park Avenue, Cranston, RI 02910. | Planning Department, 869 Park Avenue, Cranston, RI 02910. | Apr. 28, 2023 | 445396
South Carolina:
Dorchester (FEMA Docket No.: B-2321). | Town of Summerville (22-04-2209P). | The Honorable Ricky Waring, Mayor, Town of Summerville, 200 South Main Street, Summerville, SC 29483. | Engineering Department, 200 South Main Street, Summerville, SC 29483. | May 18, 2023 | 450073
Dorchester (FEMA Docket No.: B-2321). | Town of Summerville (22-04-2210P). | The Honorable Ricky Waring, Mayor, Town of Summerville, 200 South Main Street, Summerville, SC 29483. | Engineering Department, 200 South Main Street, Summerville, SC 29483. | May 18, 2023 | 450073
Dorchester (FEMA Docket No.: B-2321). | Unincorporated areas of Dorchester County (22-04-2209P). | Jason L. Ward, Dorchester County Administrator, 201 Johnston Street, St. George, SC 29477. | Dorchester County Building Services Department, 500 North Main Street, Summerville, SC 29483. | May 18, 2023 | 450068
Dorchester (FEMA Docket No.: B-2321). | Unincorporated areas of Dorchester County (22-04-2210P). | Jason L. Ward, Dorchester County Administrator, 201 Johnston Street, St. George, SC 29477. | Dorchester County Building Services Department, 500 North Main Street, Summerville, SC 29483. | May 18, 2023 | 450068
South Dakota: Beadle (FEMA Docket No.: B-2324). | City of Huron (22-08-0556P). | The Honorable Gary Harrington, Mayor, City of Huron, P.O. Box 1369, Huron, SD 57350. | Engineering Department, 239 Wisconsin Avenue Southwest, Huron, SD 57350. | May 11, 2023 | 460003
Tennessee: Sumner (FEMA Docket No.: B-2324). | City of Hendersonville (22-04-4036P). | The Honorable Jamie Clary, Mayor, City of Hendersonville, 101 Maple Drive North, Hendersonville, TN 37075. | City Hall, 101 Maple Drive North, Hendersonville, TN 37075. | May 19, 2023 | 470186
Texas:
Bexar (FEMA Docket No.: B-2321). | City of San Antonio (22-06-1472P). | The Honorable Ron Nirenberg, Mayor, City of San Antonio, P.O. Box 839966, San Antonio, TX 78283. | Public Works Department, Storm Water Division, 1901 South Alamo Street, 2nd Floor, San Antonio, TX 78204. | May 1, 2023 | 480045
Collin (FEMA Docket No.: B-2324). | City of Celina (22-06-1545P). | The Honorable Sean Terry, Mayor, City of Celina, 142 North Ohio Street, Celina, TX 75009. | Engineering Department, 142 North Ohio Street, Celina, TX 75009. | May 22, 2023 | 480133
Collin (FEMA Docket No.: B-2321). | City of Celina (22-06-1716P). | The Honorable Sean Terry, Mayor, City of Celina, 142 North Ohio Street, Celina, TX 75009. | Engineering Department, 142 North Ohio Street, Celina, TX 75009. | May 16, 2023 | 480133
Collin (FEMA Docket No.: B-2324). | City of Celina (22-06-2884P). | The Honorable Sean Terry, Mayor, City of Celina, 142 North Ohio Street, Celina, TX 75009. | Engineering Department, 142 North Ohio Street, Celina, TX 75009. | May 22, 2023 | 480133
Collin (FEMA Docket No.: B-2324). | Town of Prosper (22-06-1545P). | The Honorable David F. Bristol, Mayor, Town of Prosper, 250 West 1st Street, Prosper, TX 75078. | Town Hall, 250 West 1st Street, Prosper, TX 75078. | May 22, 2023 | 480141
Collin and Denton (FEMA Docket No.: B-2304). | Town of Prosper (22-06-0470P). | The Honorable David Bristol, Mayor, Town of Prosper, 250 West 1st Street, Prosper, TX 75078. | Town Hall, 250 West 1st Street, Prosper, TX 75078. | Apr. 27, 2023 | 480141
Collin (FEMA Docket No.: B-2324). | Unincorporated areas of Collin County (22-06-2884P). | The Honorable Chris Hill, Collin County Judge, 2300 Bloomdale Road, Suite 4192, McKinney, TX 75071. | Collin County Engineering Department, 4690 Community Avenue, Suite 22, McKinney, TX 75071. | May 22, 2023 | 480130
Denton (FEMA Docket No.: B-2324). | City of Denton (22-06-2457P). | The Honorable Gerard Hudspeth, Mayor, City of Denton, 215 East McKinney Street, Suite 100, Denton, TX 76201. | Capital Projects/Engineering Department, 401 North Elm Street, Denton, TX 76201. | May 15, 2023 | 480194
Hidalgo (FEMA Docket No.: B-2321). | City of McAllen (22-06-2442P). | Roel Roy Rodriguez, Manager, City of McAllen, P.O. Box 220, McAllen, TX 78505. | Engineering Department, 311 North 15th Street, McAllen, TX 78501. | May 1, 2023 | 480343
Hidalgo (FEMA Docket No.: B-2321). | Unincorporated areas of Hidalgo County (22-06-2442P). | The Honorable Richard F. Cortez, Hidalgo County Judge, 100 East Cano Street, 2nd Floor, Edinburg, TX 78539. | Hidalgo County Drainage District No. 1, 902 North Doolittle Road, Edinburg, TX 78542. | May 1, 2023 | 480334
Kendall (FEMA Docket No.: B-2324). | Unincorporated areas of Kendall County (22-06-0783P). | The Honorable Darrel L. Lux, Kendall County Judge, 201 East San Antonio Avenue, Suite 122, Boerne, TX 78006. | Kendall County Engineering and Development Management Department, 201 East San Antonio Avenue, Boerne, TX 78006. | May 15, 2023 | 480417
Rockwall (FEMA Docket No.: B-2321). | City of Rockwall (22-06-2295P). | The Honorable Kevin Fowler, Mayor, City of Rockwall, 385 South Goliad Street, Rockwall, TX 75087. | Engineering Department, 385 South Goliad Street, Rockwall, TX 75087. | Apr. 28, 2023 | 480547
Rockwall (FEMA Docket No.: B-2321). | Unincorporated areas of Rockwall County (22-06-2295P). | The Honorable David Sweet, Rockwall County Judge, 101 East Rusk Street, Suite 202, Rockwall, TX 75087. | Rockwall County Environmental Health Coordinator's Office/Floodplain Management, 915 Whitmore Drive, Suite D, Rockwall, TX 75087. | Apr. 28, 2023 | 480543
Tarrant (FEMA Docket No.: B-2321). | City of Fort Worth (22-06-1537P). | The Honorable Mattie Parker, Mayor, City of Fort Worth, 200 Texas Street, Fort Worth, TX 76102. | Department of Transportation and Public Works, Engineering Vault & Map Repository, 200 Texas Street, Fort Worth, TX 76102. | May 8, 2023 | 480596
Tarrant (FEMA Docket No.: B-2321). | Unincorporated areas of Tarrant County (22-06-1537P). | The Honorable B. Glen Whitley, Tarrant County Judge, 100 East Weatherford Street, Suite 501, Fort Worth, TX 76196. | Tarrant County Administration Building, 100 East Weatherford Street, Suite 401, Fort Worth, TX 76196. | May 8, 2023 | 480582
Webb (FEMA Docket No.: B-2324). | City of Laredo (22-06-2664P). | The Honorable Victor Treviño, Mayor, City of Laredo, P.O. Box 579, Laredo, TX 78042. | Planning and Zoning Department, 1413 Houston Street, Laredo, TX 7804. | May 15, 2023 | 480651
Virginia: Buchanan (FEMA Docket No.: B-2321). | Unincorporated areas of Buchanan County (23-03-0007P). | Robert Craig Horn, Buchanan County Administrator, P.O. Box 950, Grundy, VA 24614. | Buchanan County Government Center, 4447 Slate Creek Road, 2nd Floor, Grundy, VA 24614. | May 5, 2023 | 510024

[FR Doc. 2023-12474 Filed 6-9-23; 8:45 am]

BILLING CODE 9110-12-P